DEPARTMENT OF TRANSPORTATION

Federal Railroad Administration

[Docket Number FRA-2011-0022]

Notice of Public Hearing

The Central Oregon and Pacific Railroad (CORP) has petitioned the Federal Railroad Administration (FRA) seeking the approval of the proposed discontinuance and removal of automatic block signal systems on three sections of the Roseburg Subdivision and on one section of the Siskiyou Subdivision.

This proceeding is identified as FRA block signal application Docket Number FRA-2011-0022. A copy of CORP's full petition is available for review online at http://www.regulations.gov.

FRA has conducted a field investigation in this matter and has issued a public notice seeking comments from interested parties (See 75 Federal Register 21943 (April 19, 2011)). After examining the carrier's proposal and the available facts, FRA has determined that a public hearing is necessary before a final decision is made on this proposal. Accordingly, FRA invites all interested persons to participate in a public hearing on December 1, 2011. The hearing will be conducted at the Douglas County Courthouse, Room 310, 1036 Southeast Douglas Avenue, Roseburg, Oregon 97470. The hearing will begin at 9 a.m. Interested parties are invited to present oral statements at the hearing. For information on facilities or services for persons with disabilities or to request special assistance at the hearing, contact FRA's Docket Clerk Jerome Melis-Tull by telephone, email, or in writing, at least 5 business days before the date of the hearing. Mr. Melis-Tull's contact information is as follows: FRA, Office of Chief Counsel, Mail Stop 10, 1200 New Jersey Avenue, SE., Washington, DC 20590; telephone: 202-493-6058; and e-mail: Jerome.Melis-tull@dot.gov.

The hearing will be informal and conducted in accordance with Rule 25 of the FRA Rules of Practice (Title 49 Code of Federal Regulations Section 211.25) by a representative designated by FRA. The hearing will be a nonadversary proceeding; therefore, there will be no cross-examination of persons presenting statements. An FRA representative will make an opening statement outlining the scope of the hearing. After all initial statements have been completed, those persons wishing to make brief rebuttal statements will be given the opportunity to do so in the same order in which they made their initial statements. Additional procedures, if necessary for the conduct of the hearing, will be announced at the hearing.

Issued in Washington, DC, on October 19, 2011.
Robert C. Lauby,
Deputy Associate Administrator for Regulatory and Legislative Operations.

[FR Doc. 2011-27508 Filed 10-24-11; 8:45 am]

BILLING CODE 4910-06-P